ENVIRONMENTAL PROTECTION AGENCY

40 CFR Part 52

[EPA-R04-OAR-2008-0052-200803(b); FRL-8743-7]

Approval and Promulgation of Air Quality Implementation Plans; Tennessee; Approval of Revisions to the Knox County Portion of the Tennessee State Implementation Plan—“Permit by Rule” Provision

AGENCY: Environmental Protection Agency (EPA).

ACTION: Proposed rule.

SUMMARY: EPA is proposing to approve a revision to the State Implementation Plan (SIP) submitted by the State of Tennessee on October 12, 2007. The revision pertains to the Knox County portion of the Tennessee SIP and includes changes to Knox County Air Quality Management Regulation (Knox County Regulation) Section 25.10—Permit by Rule. Specifically, Section 25.10 was changed so that it clearly states that turbines and other internal combustion engines are excluded from the “Permit by Rule” provision. This revision is considered by the Tennessee Department of Environment and Conservation (TDEC), to be as or more stringent than the State of Tennessee's SIP requirements. This action is being taken pursuant to section 110 of the Clean Air Act (CAA).

In the Final Rules section of this Federal Register, EPA is approving the SIP revision as a direct final rule without prior proposal because the Agency views this as a noncontroversial submittal and anticipates no adverse comments. A detailed rationale for the approval is set forth in the direct final rule. If no adverse comments are received in response to this rule, no further activity is contemplated. If EPA receives adverse comments, the direct final rule will be withdrawn and all public comments received will be addressed in a subsequent final rule based on this proposed rule. EPA will not institute a second comment period on this document. Any parties interested in commenting on this document should do so at this time.

DATES: Written comments must be received on or before December 24, 2008.

ADDRESSES: Submit your comments, identified by Docket ID No. EPA-R04-OAR-2008-0052, by one of the following methods:

1. www.regulations.gov: Follow the on-line instructions for submitting comments.

2. E-mail: bradley.twunjala@epa.gov.

3. Fax: (404) 562-9019.

4. Mail: “EPA-R04-OAR-2008-0052,” Regulatory Development Section, Air Planning Branch, Air, Pesticides and Toxics Management Division, U.S. Environmental Protection Agency, Region 4, 61 Forsyth Street, SW., Atlanta, Georgia 30303-8960.

5. Hand Delivery or Courier: Twunjala Bradley, Regulatory Development Section, Air Planning Branch, Air, Pesticides and Toxics Management Division, U.S. Environmental Protection Agency, Region 4, 61 Forsyth Street, SW., Atlanta, Georgia 30303-8960. Such deliveries are only accepted during the Regional Office's normal hours of operation. The Regional Office's official hours of business are Monday through Friday, 8:30 to 4:30, excluding federal holidays.

Please see the direct final rule which is located in the Rules section of this Federal Register for detailed instructions on how to submit comments.

FOR FURTHER INFORMATION CONTACT: Twunjala Bradley, Regulatory Development Section, Air Planning Branch, Air, Pesticides and Toxics Management Division, U.S. Environmental Protection Agency, Region 4, 61 Forsyth Street, SW., Atlanta, Georgia 30303-8960. The telephone number is (404) 562-9352. Ms. Bradley can also be reached via electronic mail at bradley.twunjala@epa.gov.

SUPPLEMENTARY INFORMATION: For additional information see the direct final rule which is published in the Rules section of this Federal Register.

Dated: November 10, 2008.
Russell L. Wright,
Acting Regional Administrator, Region 4.

[FR Doc. E8-27740 Filed 11-21-08; 8:45 am]

BILLING CODE 6560-50-P